DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Minority AIDS Initiative—Survey of Grantee Project Directors—NEW

The Substance Abuse and Mental Health Services Administration (SAMHSA) is requesting approval to conduct online surveys of grantee Project Directors. This is a new project request targeting the collection of primary, organizational-level data through an online survey with grantee Project Directors. The grantee programs that will be involved are focused on integrating HIV and Hepatitis primary care, substance abuse, and behavioral health services and include: (1) TI-12-007 Targeted Capacity Expansion HIV Program: Substance Abuse Treatment for Racial/Ethnic Minority Populations at High-Risk for HIV/AIDS (TCE-HIV) grantees; (2) TI-14-013 Minority AIDS Initiative—Continuum of Care (MAI-CoC) grantees; (3) TI-13-011 Targeted Capacity Expansion HIV Program: Substance Abuse Treatment for Racial/Ethnic Minority Women at High Risk for HIV/AIDS (TCE-HIV: Minority Women) grantees; and (4) TI-15-006 Targeted Capacity Expansion: Substance Use Disorder Treatment for Racial/Ethnic Minority Populations at High-Risk for HIV/AIDS (TCE-HIV: High Risk Populations) grantees.

The goals of the grantee programs are to integrate behavioral health treatment, prevention, and HIV medical care services for racial/ethnic minority populations at high risk for behavioral health disorders and at high risk for or living with HIV. The grantee programs serve many different populations including African American, Hispanic/Latina and other racial/ethnic minorities, young men who have sex with men (YMSM), men who have sex with men (MSM) and bisexual men, adult heterosexual women and men, transgender persons, and people with substance use disorder. Project Director Surveys conducted with grantees are an integral part of evaluation efforts to: (1) Assess the impact of the SAMHSA-funded HIV programs in: Reducing behavioral health disorders and HIV infections; increasing access to substance use disorder (SUD) and mental disorder treatment and care; improving behavioral and mental health outcomes; and reducing HIV-related disparities in four specific grant programs; (2) Describe the different integrated behavioral health and medical program models; and (3) Determine which program types or models are most effective in improving behavioral health and clinical outcomes.

SAMHSA will request one web-based survey to be completed by each of the 152 grantee Project Directors. Project Directors may request assistance from another project administrator to help them complete the survey. The web-based survey will be conducted once for grantees in each grant program, in the grantee organization's final year of TCE-HIV (TI-12-007, TI-13-011, TI-15-006) or MAI CoC (TI-14-013) funding, with an annual average of 50 grantees/100 respondents per year. Project Directors will provide information on their program's integration of HIV and Hepatitis medical and primary care into behavioral health services and project implementation. While participating in the evaluation is a condition of the grantees' funding, participating in the survey process is voluntary. The questionnaire is designed to collect information about: Grantee organizational structure, outreach and engagement, services provided through the grant-funded project, coordination of care, behavioral health/medical care integration, funding and project sustainability, staffing and staff development.

The table below is the annualized burden hours:

Estimate of Annual Average Reporting Burden: Project Director Survey
Data collection tool | Number of respondents | Responses per respondent | Total responses | Hour per response | Total burden hours
Project Director Survey | 100 | 1 | 100 | 1 | 100

Written comments and recommendations concerning the proposed information collection should be sent by January 9, 2017 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2016-29538 Filed 12-8-16; 8:45 am]

BILLING CODE 4162-20-P